DEPARTMENT OF COMMERCE

International Trade Administration

Antidumping or Countervailing Duty Order, Finding, or Suspended Investigation; Opportunity To Request Administrative Review and Join Annual Inquiry Service List

AGENCY: Enforcement and Compliance, International Trade Administration, Department of Commerce.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Each year during the anniversary month of the publication of an antidumping duty (AD) or countervailing duty (CVD) order, finding, or suspended investigation, an interested party, as defined in section 771(9) of the Tariff Act of 1930, as amended (the Act), may request, in accordance with 19 CFR 351.213, that the U.S. Department of Commerce (Commerce) conduct an administrative review of that AD or CVD order, finding, or suspended investigation.

All deadlines for the submission of comments or actions by Commerce discussed below refer to the number of calendar days from the applicable starting date.

Respondent Selection

In the event Commerce limits the number of respondents for individual examination for administrative reviews initiated pursuant to requests made for the orders identified below, Commerce intends to select respondents based on U.S. Customs and Border Protection (CBP) data for U.S. imports during the period of review (POR). We intend to release the CBP data under Administrative Protective Order (APO) to all parties having an APO within five days of publication of the initiation notice and to make our decision regarding respondent selection within 35 days of publication of the initiation Federal Register notice. Therefore, we encourage all parties interested in commenting on respondent selection to submit their APO applications on the date of publication of the initiation notice, or as soon thereafter as possible. Commerce invites comments regarding the CBP data and respondent selection within five days of placement of the CBP data on the record of the review.

In the event Commerce decides it is necessary to limit individual examination of respondents and conduct respondent selection under section 777A(c)(2) of the Act:

1. In general, Commerce finds that determinations concerning whether particular companies should be “collapsed” (i.e., treated as a single entity for purposes of calculating AD rates) require a substantial amount of detailed information and analysis, which often require follow-up questions and analysis. Accordingly, Commerce will not conduct collapsing analyses at the respondent selection phase of a review and will not collapse companies at the respondent selection phase unless there has been a determination to collapse certain companies in a previous segment of this AD proceeding (i.e., investigation, administrative review, new shipper review, or changed circumstances review).

2. For any company subject to a review, if Commerce determined, or continued to treat, that company as collapsed with others, Commerce will assume that such companies continue to operate in the same manner and will collapse them for respondent selection purposes. Otherwise, Commerce will not collapse companies for purposes of respondent selection.

3. Parties are requested to: (a) identify which companies subject to review previously were collapsed; and (b) provide a citation to the proceeding in which they were collapsed.

4. Further, if companies are requested to complete a Quantity and Value Questionnaire for purposes of respondent selection, in general, each company must report volume and value data separately for itself. Parties should not include data for any other party, even if they believe they should be treated as a single entity with that other party. If a company was collapsed with another company or companies in the most recently completed segment of a proceeding where Commerce considered collapsing that entity, complete quantity and value data for that collapsed entity must be submitted.

Deadline for Withdrawal of Request for Administrative Review

Pursuant to 19 CFR 351.213(d)(1), a party that requests a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial Section D responses.

Opportunity to Request a Review: Not later than the last day of May 2025,² interested parties may request administrative review of the following orders, findings, or suspended investigations, with anniversary dates in May for the following periods:

² Or the next business day, if the deadline falls on a weekend, Federal holiday or any other day when Commerce is closed.

³ In the opportunity notice that published on April 1, 2025 (90 FR 14363), Commerce listed with wrong period of review. The correct period of review is listed above. This serves as a correction.

| Period
Antidumping Duty Proceedings
AUSTRIA: Carbon and Alloy Steel Cut-To-Length Plate, A-433-812 | 5/1/24-4/30/25
BELGIUM:
Certain Carbon and Alloy Steel Cut-To-Length Plate, A-423-812 | 5/1/24-4/30/25
Stainless Steel Plate in Coils, A-423-808 | 5/1/24-4/30/25
BRAZIL: Iron Construction Castings, A-351-503 | 5/1/24-4/30/25
CAMBODIA: Mattresses, A-555-001 | 5/1/24-4/30/25
CANADA:
Large Diameter Welded Carbon and Alloy Steel Line and Structural Pipe, A-122-863 | 5/1/24-4/30/25
Polyethylene Terephthalate Resin, A-122-855 | 5/1/24-4/30/25
FRANCE: Carbon and Alloy Steel Cut-To-Length Plate, A-427-828 | 5/1/24-4/30/25
GERMANY: Carbon and Alloy Steel Cut-To-Length Plate, A-428-844 | 5/1/24-4/30/25
GREECE: Large Diameter Welded Pipe, A-484-803 | 5/1/24-4/30/25
INDIA:
Certain Welded Carbon Steel Standard Pipes and Tubes, A-533-502 | 5/1/24-4/30/25
Organic Soybean Meal, A-533-901 | 5/1/24-4/30/25
Polyethylene Terephthalate Resin, A-533-861 | 5/1/24-4/30/25
Silicomanganese, A-533-823 | 5/1/23-4/30/24
INDONESIA:
Mattresses, A-560-836 | 5/1/24-4/30/25
Polyethylene Retail Carrier Bags, A-560-822 | 5/1/24-4/30/25
ITALY:
Certain Carbon and Alloy Steel Cut-To-Length Plate, A-475-834 | 5/1/24-4/30/25
Carbon and Alloy Steel Wire Rod, A-475-836 | 5/1/24-4/30/25
JAPAN:
Carbon and Alloy Steel Cut-To-Length Plate, A-588-875 | 5/1/24-4/30/25
Diffusion-Annealed Nickel-Plated Flat-Rolled Steel Products, A-588-869 | 5/1/24-4/30/25
Gray Portland Cement and Cement Clinker, A-588-815 | 5/1/24-4/30/25
KAZAKHSTAN: Silicomanganese, A-834-807 | 5/1/24-4/30/25
MALAYSIA: Mattresses, A-557-818 | 5/1/24-4/30/25
NETHERLANDS: Certain Preserved Mushrooms, A-421-815 | 5/1/24-4/30/25
OMAN: Polyethylene Terephthalate Resin, A-523-810 | 5/1/24-4/30/25
POLAND: Preserved Mushrooms, A-455-806 | 5/1/24-4/30/25
REPUBLIC OF KOREA:
Carbon and Alloy Steel Cut-To-Length Plate, A-580-887 | 5/1/24-4/30/25
Carbon and Alloy Steel Wire Rod, A-580-891 | 5/1/24-4/30/25
Ferrovanadium, A-580-886 | 5/1/24-4/30/25
Large Diameter Welded Pipe, A-580-897 | 5/1/24-4/30/25
Polyester Staple Fiber, A-580-839 | 5/1/24-4/30/25
REPUBLIC OF TÜRKIYE:
Carbon and Alloy Steel Wire Rod, A-489-831 | 5/1/24-4/30/25
Circular Welded Carbon Steel Pipes and Tubes, A-489-501 | 5/1/24-4/30/25
Large Diameter Welded Carbon and Alloy Steel Line and Structural Pipe, A-489-833 | 5/1/24-4/30/25
Light-Walled Rectangular Pipe and Tube, A-489-815 | 5/1/24-4/30/25
Mattresses, A-489-841 | 5/1/24-4/30/25
Certain Paper Shopping Bags, A-489-849 | 1/3/24-4/30/25
SERBIA: Mattresses, A-801-002 | 5/1/24-4/30/25
SOCIALIST REPUBLIC OF VIETNAM:
Mattresses, A-552-827 | 5/1/24-4/30/25
Polyethylene Retail Carrier Bags, A-552-806 | 5/1/24-4/30/25
SOUTH AFRICA: Stainless Steel Plate in Coils, A-791-805 | 5/1/24-4/30/25
SPAIN:
Carbon and Alloy Steel Wire Rod, A-469-816 | 5/1/24-4/30/25
Preserved Mushrooms, A-469-825 | 5/1/24-04/30/25
TAIWAN:
Certain Carbon and Alloy Steel Cut-To-Length Plate, A-583-858 | 5/1/24-4/30/25
Certain Circular Welded Carbon Steel Pipes and Tubes, A-583-008 | 5/1/24-4/30/25
Polyester Staple Fiber, A-583-833 | 5/1/24-4/30/25
Polyethylene Retail Carrier Bags, A-583-843 | 5/1/24-4/30/25
Certain Stainless Steel Plate in Coils, A-583-830 | 5/1/24-4/30/25
Stilbenic Optical Brightening Agents, A-583-848 | 5/1/24-4/30/25
THAILAND: Mattresses, A-549-841 | 5/1/24-4/30/25
THE PEOPLE'S REPUBLIC OF CHINA:
1-Hydroxyethylidene-1, 1-Diphoshonic Acid (Hedp), A-570-045 | 5/1/24-4/30/25
Aluminum Extrusions, A-570-967 | 5/1/24-4/30/25
Cast Iron Soil Pipe, A-570-079 | 5/1/24-4/30/25
Certain Steel Wheels, A-570-082 | 5/1/24-4/30/25
Certain Vertical Shaft Engines, between 99cc and up to 225cc, and parts thereof, A-570-124 | 5/1/24-4/30/25
Circular Welded Carbon Quality Steel Line Pipe, A-570-935 | 5/1/24-4/30/25
Citric Acid and Citrate Salt, A-570-937 | 5/1/24-4/30/25
Iron Construction Castings, A-570-502 | 5/1/24-4/30/25
Non-refillable Steel Cylinders, A-570-126 | 5/1/24-4/30/25
Oil Country Tubular Goods, A-570-943 | 5/1/24-4/30/25
Polyethylene Terephthalate Resin, A-570-024 | 5/1/24-4/30/25
Pure Magnesium, A-570-832 | 5/1/24-4/30/25
Stilbenic Optical Brightening Agents, A-570-972 | 5/1/24-4/30/25
Walk-Behind Snow Throwers and Parts Thereof, A-570-141 | 5/1/24-4/30/25
UNITED ARAB EMIRATES: Steel Nails, A-520-804 | 5/1/24-4/30/25
THE UNITED KINGDOM: Carbon and Alloy Steel Wire Rod, A-412-826 | 5/1/24-4/30/25
VENEZUELA: Silicomanganese, A-307-820 | 5/1/24-4/30/25
Countervailing Duty Proceedings
BRAZIL: Heavy Iron Construction Castings, C-351-504 | 1/1/24-12/31/24
BAHRAIN: Common Alloy Sheet,³ C-525-002 | 1/1/24-12/31/24
INDIA:
Organic Soybean Meal, C-533-902 | 1/1/24-12/31/24
Polyethylene Terephthalate Resin, C-533-862 | 1/1/24-12/31/24
ITALY: Carbon and Alloy Steel Wire Rod, C-475-837 | 1/1/24-12/31/24
REPUBLIC OF KOREA:
Carbon and Alloy Steel Cut-To-Length Plate, C-580-888 | 1/1/24-12/31/24
Large Diameter Welded Pipe, C-580-898 | 1/1/24-12/31/24
SOCIALIST REPUBLIC OF VIETNAM: Polyethylene Retail Carrier Bags, C-552-805 | 1/1/24-12/31/24
SOUTH AFRICA: Stainless Steel Plate in Coils, C-791-806 | 1/1/24-12/31/24
THE PEOPLE'S REPUBLIC OF CHINA:
1-Hydroxyethylidene-1, 1-Diphoshonic Acid (HEDP), C-570-046 | 1/1/24-12/31/24
Aluminum Extrusions, C-570-968 | 1/1/24-12/31/24
Cast Iron Soil Pipe, C-570-080 | 1/1/24-12/31/24
Certain Chassis and Subassemblies Thereof, C-570-136 | 1/1/24-12/31/24
Certain Steel Wheels, C-570-083 | 1/1/24-12/31/24
Certain Vertical Shaft Engines a Displaced, between 99 Cubic Centimeters and up to 225cc, and parts thereof, C-570-125 | 1/1/24-12/31/24
Citric Acid and Citrate Salt, C-570-938 | 1/1/24-12/31/24
Non-refillable Steel Cylinders, C-570-127 | 1/1/24-12/31/24
Polyethylene Terephthalate Resin, C-570-025 | 1/1/24-12/31/24
Walk-Behind Snow Throwers and Parts Thereof, C-570-142 | 1/1/24-12/31/24
REPUBLIC OF TÜRKIYE:
Large Diameter Welded Carbon and Alloy Steel Line and Structural Pipe, C-489-834 | 1/1/24-12/31/24
Carbon and Alloy Steel Wire Rod, C-489-832 | 1/1/24-12/31/24

Suspension Agreements

None.

In accordance with 19 CFR 351.213(b), an interested party as defined by section 771(9) of the Act may request in writing that Commerce conduct an administrative review. For both AD and CVD reviews, the interested party must specify the individual producers or exporters covered by an AD finding or an AD or CVD order or suspension agreement for which it is requesting a review. In addition, a domestic interested party or an interested party described in section 771(9)(B) of the Act must state why it desires Commerce to review those particular producers or exporters. If the interested party intends for Commerce to review sales of merchandise by an exporter (or a producer if that producer also exports merchandise from other suppliers) which was produced in more than one country of origin and each country of origin is subject to a separate order, then the interested party must state specifically, on an order-by-order basis, which exporter(s) the request is intended to cover.

Note that, for any party Commerce was unable to locate in prior segments, Commerce will not accept a request for an administrative review of that party absent new information as to the party's location. Moreover, if the interested party who files a request for review is unable to locate the producer or exporter for which it requested the review, the interested party must provide an explanation of the attempts it made to locate the producer or exporter at the same time it files its request for review, in order for Commerce to determine if the interested party's attempts were reasonable, pursuant to 19 CFR 351.303(f)(3)(ii).

As explained in Antidumping and Countervailing Duty Proceedings: Assessment of Antidumping Duties, 68 FR 23954 (May 6, 2003), and Non-Market Economy Antidumping Proceedings: Assessment of Antidumping Duties, 76 FR 65694 (October 24, 2011), Commerce clarified its practice with respect to the collection of final antidumping duties on imports of merchandise where intermediate firms are involved. The public should be aware of this clarification in determining whether to request an administrative review of merchandise subject to antidumping findings and orders.⁴

⁴ See the Enforcement and Compliance website at https://www.trade.gov/us-antidumping-and-countervailing-duties.

Commerce no longer considers the non-market economy (NME) entity as an exporter conditionally subject to an AD administrative review.⁵ Accordingly, the NME entity will not be under review unless Commerce specifically receives a request for, or self-initiates, a review of the NME entity.⁶ In administrative reviews of AD orders on merchandise from NME countries where a review of the NME entity has not been initiated, but where an individual exporter for which a review was initiated does not qualify for a separate rate, Commerce will issue a final decision indicating that the company in question is part of the NME entity. However, in that situation, because no review of the NME entity was conducted, the NME entity's entries were not subject to the review and the rate for the NME entity is not subject to change as a result of that review (although the rate for the individual exporter may change as a function of the finding that the exporter is part of the NME entity). Following initiation of an AD administrative review when there is no review requested of the NME entity, Commerce will instruct CBP to liquidate entries for all exporters not named in the initiation notice, including those that were suspended at the NME entity rate.

⁵ See Antidumping Proceedings: Announcement of Change in Department Practice for Respondent Selection in Antidumping Duty Proceedings and Conditional Review of the Nonmarket Economy Entity in NME Antidumping Duty Proceedings, 78 FR 65963 (November 4, 2013).

⁶ In accordance with 19 CFR 351.213(b)(1), parties should specify that they are requesting a review of entries from exporters comprising the entity, and to the extent possible, include the names of such exporters in their request.

All requests must be filed electronically in Enforcement and Compliance's Antidumping and Countervailing Duty Centralized Electronic Service System (ACCESS) on Enforcement and Compliance's ACCESS website at https://access.trade.gov.⁷ Further, in accordance with 19 CFR 351.303(f)(l)(i), a copy of each request must be served on the petitioner and each exporter or producer specified in the request. Note that Commerce has amended certain of its requirements pertaining to the service of documents in 19 CFR 351.303(f).⁸

⁷ See Antidumping and Countervailing Duty Proceedings: Electronic Filing Procedures; Administrative Protective Order Procedures, 76 FR 39263 (July 6, 2011).

⁸ See Administrative Protective Order, Service, and Other Procedures in Antidumping and Countervailing Duty Proceedings; Final Rule, 88 FR 67069 (September 29, 2023).

Commerce will publish in the Federal Register a notice of “Initiation of Administrative Review of Antidumping or Countervailing Duty Order, Finding, or Suspended Investigation” for requests received by the last day of May 2025. If Commerce does not receive, by the last day of May 2025, a request for review of entries covered by an order, finding, or suspended investigation listed in this notice and for the period identified above, Commerce will instruct CBP to assess antidumping or countervailing duties on those entries at a rate equal to the cash deposit of estimated antidumping or countervailing duties required on those entries at the time of entry, or withdrawal from warehouse, for consumption and to continue to collect the cash deposit previously ordered.

For the first administrative review of any order, there will be no assessment of antidumping or countervailing duties on entries of subject merchandise entered, or withdrawn from warehouse, for consumption during the relevant provisional-measures “gap” period of the order, if such a gap period is applicable to the period of review.

Establishment of and Updates to the Annual Inquiry Service List

On September 20, 2021, Commerce published the final rule titled “Regulations to Improve Administration and Enforcement of Antidumping and Countervailing Duty Laws” in the Federal Register.⁹ On September 27, 2021, Commerce also published the notice entitled “Scope Ruling Application; Annual Inquiry Service List; and Informational Sessions” in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹¹

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

¹¹ Id.

In accordance with the Procedural Guidance, for orders published in the Federal Register before November 4, 2021, Commerce created an annual inquiry service list segment for each order and suspended investigation. Interested parties who wished to be added to the annual inquiry service list for an order submitted an entry of appearance to the annual inquiry service list segment for the order in ACCESS and, on November 4, 2021, Commerce finalized the initial annual inquiry service lists for each order and suspended investigation. Each annual inquiry service list has been saved as a public service list in ACCESS, under each case number, and under a specific segment type called “AISL-Annual Inquiry Service List.” ¹²

¹² This segment has been combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

As mentioned in the Procedural Guidance, beginning in January 2022, Commerce will update these annual inquiry service lists on an annual basis when the Opportunity Notice for the anniversary month of the order or suspended investigation is published in the Federal Register.¹³ Accordingly, Commerce will update the annual inquiry service lists for the above-listed AD and CVD proceedings. All interested parties wishing to appear on the updated annual inquiry service list must take one of the two following actions: (1) new interested parties who did not previously submit an entry of appearance must submit a new entry of appearance at this time; (2) interested parties who were included in the preceding annual inquiry service list must submit an amended entry of appearance to be included in the next year's annual inquiry service list. For these interested parties, Commerce will change the entry of appearance status from “Active” to “Needs Amendment” for the annual inquiry service lists corresponding to the above-listed proceedings. This will allow those interested parties to make any necessary amendments and resubmit their entries of appearance. If no amendments need to be made, the interested party should indicate in the area on the ACCESS form requesting an explanation for the amendment that it is resubmitting its entry of appearance for inclusion in the annual inquiry service list for the following year. As mentioned in the Final Rule,¹⁴ once the petitioners and foreign governments have submitted an entry of appearance for the first time, they will automatically be added to the updated annual inquiry service list each year.

¹³ See Procedural Guidance, 86 FR at 53206.

¹⁴ See Final Rule, 86 FR at 52335.

Interested parties have 30 days after the date of this notice to submit new or amended entries of appearance. Commerce will then finalize the annual inquiry service lists five business days thereafter. For ease of administration, please note that Commerce requests that law firms with more than one attorney representing interested parties in a proceeding designate a lead attorney to be included on the annual inquiry service list.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁵ Accordingly, as stated above and pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹⁵ Id.

This notice is not required by statute but is published as a service to the international trading community.

Dated: April 28, 2025.
Scot Fullerton,
Acting Deputy Assistant Secretary for Antidumping and Countervailing Duty Operations.

[FR Doc. 2025-07682 Filed 5-2-25; 8:45 am]

BILLING CODE 3510-DS-P